DEPARTMENT OF HOMELAND SECURITY

Coast Guard

[USCG-2011-0854]

Information Collection Request to Office of Management and Budget

AGENCY: Coast Guard, DHS.

ACTION: Sixty-day notice requesting comments.

SUMMARY: In compliance with the Paperwork Reduction Act of 1995, the U.S. Coast Guard intends to submit Information Collection Requests (ICRs) to the Office of Management and Budget (OMB), Office of Information and Regulatory Affairs (OIRA), requesting approval of revisions to the following collections of information: 1625-0045, Adequacy Certification for Reception Facilities and Advance Notice—33 CFR Part 158, 1625-0060, Vapor Control Systems for Facilities and Tank Vessels, 1625-0081, Alternate Compliance Program, 1625-0083, Operational Measures for Existing Tank Vessels Without Double Hulls and l625-0113, Crewmember Identification Documents.

Our ICRs describe the information we seek to collect from the public. Before submitting these ICRs to OIRA, the Coast Guard is inviting comments as described below.

DATES: Comments must reach the Coast Guard on or before November 15, 2011.

ADDRESSES: You may submit comments identified by Coast Guard docket number [USCG-2011-0854] to the Docket Management Facility (DMF) at the U.S. Department of Transportation (DOT). To avoid duplicate submissions, please use only one of the following means:

(1) Online: http://www.regulations.gov.

(2) Mail: DMF (M-30), DOT, West Building Ground Floor, Room W12-140, 1200 New Jersey Avenue, SE., Washington, DC 20590-0001.

(3) Hand delivery: Same as mail address above, between 9 a.m. and 5 p.m., Monday through Friday, except Federal holidays. The telephone number is 202-366-9329.

(4) Fax: 202-493-2251. To ensure your comments are received in a timely manner, mark the fax, to attention Desk Officer for the Coast Guard.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

Copies of the ICRs are available through the docket on the Internet at http://www.regulations.gov. Additionally, copies are available from: Commandant (CG-611), ATTN Paperwork Reduction Act Manager, U.S. Coast Guard, 2100 2nd St., SW., Stop 7101, Washington DC 20593-7101.

FOR FURTHER INFORMATION CONTACT: Ms. Kenlinishia Tyler, Office of Information Management, telephone 202-475-3652, or fax 202-475-3929, for questions on these documents. Contact Ms. Renee V. Wright, Program Manager, Docket Operations, 202-366-9826, for questions on the docket.

SUPPLEMENTARY INFORMATION:

Public Participation and Request for Comments.

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collections. There is one ICR for each Collection.

The Coast Guard invites comments on whether these ICRs should be granted based on the Collections being necessary for the proper performance of Departmental functions. In particular, the Coast Guard would appreciate comments addressing: (1) The practical utility of the Collections; (2) the accuracy of the estimated burden of the Collections; (3) ways to enhance the quality, utility, and clarity of information subject to the Collections; and (4) ways to minimize the burden of the Collections on respondents, including the use of automated collection techniques or other forms of information technology. In response to your comments, we may revise these ICRs or decide not to seek approval for the Collections. We will consider all comments and material received during the comment period.

We encourage you to respond to this request by submitting comments and related materials. Comments must contain the OMB Control Number of the ICR and the docket number of this request, [USCG-2011-0854], and must be received by November 15, 2011. We will post all comments received, without change, to http://www.regulations.gov. They will include any personal information you provide. We have an agreement with DOT to use their DMF. Please see the “Privacy Act” paragraph below.

Submitting Comments

If you submit a comment, please include the docket number [USCG-2011-0854], indicate the specific section of the document to which each comment applies, providing a reason for each comment. You may submit your comments and material online (via http://www.regulations.gov), by fax, mail, or hand delivery, but please use only one of these means. If you submit a comment online via http://www.regulations.gov, it will be considered received by the Coast Guard when you successfully transmit the comment. If you fax, hand deliver, or mail your comment, it will be considered as having been received by the Coast Guard when it is received at the DMF. We recommend you include your name, mailing address, an e-mail address, or other contact information in the body of your document so that we can contact you if we have questions regarding your submission.

You may submit your comments and material by electronic means, mail, fax, or delivery to the DMF at the address under ADDRESSES; but please submit them by only one means. To submit your comment online, go to http://www.regulations.gov, and type “USCG-2011-0854” in the “Keyword” box. If you submit your comments by mail or hand delivery, submit them in an unbound format, no larger than 8½ by 11 inches, suitable for copying and electronic filing. If you submit comments by mail and would like to know that they reached the Facility, please enclose a stamped, self-addressed postcard or envelope. We will consider all comments and material received during the comment period and will address them accordingly.

Viewing comments and documents: To view comments, as well as documents mentioned in this Notice as being available in the docket, go to http://www.regulations.gov, click on the “read comments” box, which will then become highlighted in blue. In the “Keyword” box insert “USCG-2011-0854” and click “Search.” Click the “Open Docket Folder” in the “Actions” column. You may also visit the DMF in Room W12-140 on the ground floor of the DOT West Building, 1200 New Jersey Avenue, SE., Washington, DC 20590, between 9 a.m. and 5 p.m., Monday through Friday, except Federal holidays.

Privacy Act

Anyone can search the electronic form of comments received in dockets by the name of the individual submitting the comment (or signing the comment, if submitted on behalf of an association, business, labor union, etc.). You may review a Privacy Act statement regarding Coast Guard public dockets in the January 17, 2008, issue of the Federal Register (73 FR 3316).

Information Collection Requests

1. Title: Adequacy Certification for Reception Facilities and Advance Notice—33 CFR Part 158.

OMB Control Number: 1625-0045.

Summary: This information helps ensure that waterfront facilities are in compliance with reception facility standards. Advance notice information from vessels ensures effective management of reception facilities.

Need: Section 1905 of Title 33 U.S.C. gives the Coast Guard the authority to certify the adequacy of reception facilities in ports. Reception facilities are needed to receive waste from ships which may not discharge at sea. Under these regulations in 33 CFR part 158 there are discharge limitations for oil and oily waste, noxious liquid substances, plastics and other garbage.

Forms: CG-5401, CG-5401A, CG-5401B, CG-5401C.

Respondents: Owners and operators of reception facilities, and owners and operators of vessels.

Frequency: On occasion.

Burden Estimate: The estimated burden has decreased from 1,529 hours to 1,497 hours a year.

2. Title: Vapor Control Systems for Facilities and Tank Vessels.

OMB Control Number: 1625-0060.

Summary: The information is needed to ensure compliance with U.S. regulations for the design of facility and tank vessel vapor control systems (VCS). The information is also needed to determine the qualifications of a certifying entity.

Need: Section 1225 of 33 U.S.C. and 46 U.S.C. 3703 authorizes the Coast Guard to establish regulations to promote the safety of life and property onboard facilities and vessels. Title 33 CFR part 154 subpart E and 46 CFR part 39 contains the Coast Guard regulations for VCS and certifying entities.

Forms: None.

Respondents: Owners and operators of facilities and tank vessels, and certifying entities.

Frequency: On occasion.

Burden Estimate: The estimated burden has increased from 2,724 hours to 2,789 hours a year.

3. Title: Alternate Compliance Program.

OMB Control Number: 1625-0081.

Summary: This information is used by the Coast Guard to assess vessels participating in the voluntary Alternate Compliance Program (ACP) before issuance of a Certificate of Inspection.

Need: Sections 3306 and 3316 of 46 U.S.C. authorize the Coast Guard to establish vessel inspection regulations and inspection alternatives. Part 8 of 46 CFR contains the Coast Guard regulations for recognizing classification societies and enrollment of U.S.-flag vessels in ACP.

Forms: CG-3752 & CG-3752A.

Respondents: Owners and operators of U.S.-flag inspected vessels. Frequency: On occasion.

Burden Estimate: The estimated burden has decreased from 212 hours to 176 hours a year.

4. Title: Operational Measures for Existing Tank Vessels Without Double Hulls.

OMB Control Number: 1625-0083.

Summary: The information is needed to ensure compliance with U.S. regulations regarding operational measures for certain tank vessels while operating in the U.S. waters.

Need: Sections 3703 and 3703a of 46 U.S.C. authorize the Coast Guard to establish regulations for tank vessels to promote the safety of life for increased protection against hazards to life and property, for navigation and vessel safety, and for enhanced protection of the marine environment. Subparts G, H and I of 33 CFR part 157 contain Coast Guard regulations regarding operational measures for certain tank vessels without double hulls.

Forms: None.

Respondents: Owners, operators and masters of certain tank vessels.

Frequency: On occasion.

Burden Estimate: The estimated burden has decreased from 3,474 hours to 1,684 hours a year.

5. Title: Crewmember Identification Documents.

OMB Control Number: 1625-0113.

Summary: This information collection covers the requirement that crewmembers on vessels calling at U.S. ports must carry and present on demand an identification that allows the identity of crewmembers to be authoritatively validated.

Need: Title 46 U.S.C. 70111 mandated that the Coast Guard establish regulations about crewmember identification. The regulations are in 33 CFR part 160 subpart D.

Forms: None.

Respondents: Crewmembers, and operators of certain vessels. Frequency: On occasion.

Burden Estimate: The estimated burden has decreased from 34,553 hours to 30,275 hours a year.

Dated: September 9, 2011.
R.E. Day,
Rear Admiral, U.S. Coast Guard, Assistant Commandant for Command, Control, Communications, Computers and Information Technology.

[FR Doc. 2011-23754 Filed 9-15-11; 8:45 am]

BILLING CODE 9110-04-P